COMMITTEE FOR PURCHASE FROM PEOPLE WHO ARE BLIND OR SEVERELY DISABLED

Procurement List; Proposed Additions and Deletion

ACTION: Proposed Additions to and Deletion from the Procurement List.

SUMMARY: The Committee is proposing to add to the Procurement List a product and a service to be furnished by nonprofit agencies employing persons who are blind or have other severe disabilities, and to delete a product previously furnished by such agencies.

Comments Must be Received On or Before: November 4, 2007.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail: CMTEFedReg@jwod.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the product and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and service to the Government.

2. If approved, the action will result in authorizing small entities to furnish the product and service to the Government.

3. There are no known regulatory alternatives which would accomplish the objectives of the Javits-Wagner-O'Day Act (41 U.S.C. 46-48c) in connection with the product and service proposed for addition to the Procurement List.

Comments on this certification are invited. Commenters should identify the statement(s) underlying the certification on which they are providing additional information.

End of Certification

The following product and service are proposed for addition to Procurement List for production by the nonprofit agencies listed:

Product

Coveralls, Disposable, Recycled Tyvek

NSN: 8415-LL-L05-0056—Small/Medium.

NSN: 8415-LL-L05-0057—Large/Extra Large.

NSN: 8415-LL-L05-0058—XXLarge/XXXLarge.

Coverage: C-List for the requirements of the Norfolk Naval Shipyard, Portsmouth, VA.

NPA: Northeastern Association of the Blind at Albany, Inc., Albany, NY.

Contracting Activity: Norfolk Naval Shipyard, Portsmouth, VA.

Service

Service Type/Location: Document Destruction, Internal Revenue Service, 200 Granby Street, Norfolk, VA.

Service Type/Location: Document Destruction, Internal Revenue Service, 903 Gateway Blvd, Hampton, VA.

NPA: Louise W. Eggleston Center, Inc., Norfolk, VA.

Contracting Activity: U.S. Department of Treasury, Internal Revenue Service, Chamblee, GA.

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the product to the Government.

3. There are no known regulatory alternatives which would accomplish the objectives of the Javits-Wagner-O'Day Act (41 U.S.C. 46-48c) in connection with the product proposed for deletion from the Procurement List.

Comments on this certification are invited. Commenters should identify the statement(s) underlying the certification on which they are providing additional information.

End of Certification

The following product is proposed for deletion from the Procurement List:

Product:

JRROTC Shoulder Board

NSN: 8455-01-468-0520—JRROTC Shoulder Board.

NSN: 8455-01-468-0536—JRROTC Shoulder Board.

NSN: 8455-01-468-0538—JRROTC Shoulder Board.

NSN: 8455-01-468-0539—JRROTC Shoulder Board.

NSN: 8455-01-468-0563—JRROTC Shoulder Board.

NSN: 8455-01-468-0564—JRROTC Shoulder Board.

NSN: 8455-01-468-0565—JRROTC Shoulder Board.

NSN: 8455-01-468-0569—JRROTC Shoulder Board.

NSN: 8455-01-468-0571—JRROTC Shoulder Board.

NSN: 8455-01-468-0572—JRROTC Shoulder Board.

NSN: 8455-01-468-0595—JRROTC Shoulder Board.

NSN: 8455-01-468-0726—JRROTC Shoulder Board.

NPA: Westmoreland County Blind Association, Greensburg, PA.

NPA: Blind Industries & Services of Maryland, Baltimore, MD.

Contracting Activity: Defense Supply Center Philadelphia, Philadelphia, PA.

Kimberly M. Zeich,
Director, Program Operations.

[FR Doc. E7-19716 Filed 10-4-07; 8:45 am]

BILLING CODE 6353-01-P